DEPARTMENT OF HEALTH AND HUMAN SERVICES

Centers for Disease Control and Prevention

[60Day-09-09AD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Field Triage Decision Scheme: The National Trauma Triage Protocol—New—Division of Injury Response (DIR), National Center for Injury Prevention and Control (NCIPC), Centers for Disease Control and Prevention (CDC).

Background and Brief Description

The Field Triage Decision Scheme: The National Trauma Triage Protocol educational initiative was developed to help emergency medical services (EMS) professionals (administrators, medical directors, trauma system leadership, and providers) learn about and implement the revised Field Triage Decision Scheme. The Decision Scheme is intended to be the foundation for the development of local and regional field triage protocols.

In the United States, injury is the leading cause of death for persons aged 1-44 years. EMS professionals have a substantial impact on care of the injured and on public health. At an injury scene, EMS professionals determine the severity of injury, initiate medical management, and identify the most appropriate facility to which the patient should be transported. This destination decision is made through a process called field triage. Certain hospitals have additional expertise, resources, and equipment to treat severely injured patients. These facilities are known as trauma centers and are classified from Level I to Level IV. The risk for death of a severely injured person is 25% lower if the patient receives care at a Level I trauma center. However, not all patients require the services of a Level I trauma center; proper triage will ensure that patients who are injured less severely will be transported to a closer emergency department that is capable of managing their injuries.

In an effort to encourage use of improved triage procedures, CDC's National Center for Injury Prevention and Control (NCIPC) worked with experts and partner organizations to develop the 2006 Field Triage Decision Scheme. In support of the 2006 Field Triage Decision Scheme, NCIPC developed a multi-media toolkit aimed at EMS professionals. The toolkit includes A Guide to the Field Triage Decision Scheme: The National Trauma Triage Protocol, a poster, CD-ROM, and pocket card to help EMS providers, planners, and administrators effectively train others and use the Decision Scheme criteria within their own systems.

After the national distribution, NCIPC will conduct an online survey of EMS professionals who have received a toolkit to assess the short-term impact of the communication initiative directed at EMS professionals about field triage procedures. Specifically, the survey will assess how many EMS professionals who received a copy of the Decision Scheme are using it, how EMS professionals have used the Decision Scheme and accompanying toolkit materials, how the materials have been used to educate others, what EMS professionals learned from the materials, and how the Decision Scheme changed EMS professional's triage practices. Survey results will be used to identify the impact and applicability of the Decision Scheme and toolkit materials for EMS professionals.

NCIPC will also conduct focus groups with a segment of the survey respondents in order to have them elaborate on data submitted through the survey. These group interviews will focus on the extent the Decision Scheme is being used, how it is being implemented, self-reported changes in knowledge, and perceived impact on treatment of trauma patients. There are no costs to respondents other than their time.

Estimate of Annualized Burden Hours
Type of respondents | Form name | No. of respondents | No. of responses per respondent | Average burden per response (in hours) | Total burden (in hours)
EMS professionals | Online survey | 3,000 | 1 | 15/60 | 750
| Screening and Recruitment for Focus Groups | 48 | 1 | 5/60 | 4
| Focus Groups | 64 | 1 | 1 | 64
Total |  |  |  |  | 818

Dated: September 14, 2009.
Maryam I. Daneshvar,
Acting Reports Clearance Officer, Centers for Disease Control and Prevention.

[FR Doc. E9-22646 Filed 9-18-09; 8:45 am]

BILLING CODE 4163-18-P